DEPARTMENT OF LABOR

Occupational Safety and Health Administration

Notice of Meeting

Notice is hereby given of the date and location of an informal meeting to discuss the proposed changes to the federal sector recordkeeping requirements from 29 CFR part 1960, subpart I, to portions of 29 CFR part 1904 regulations, by reference. The meeting will be held on February 25, 2003, starting at 9 a.m., in Room N-4437 B/C/D of the Department of Labor Frances Perkins Building, 200 Constitution Avenue, NW., Washington, DC 20210. The meeting will be open to the public. All persons wishing to attend this meeting must exhibit photo identification to security personnel.

Agenda items will include:

1. Reason for the proposed change.

2. Description of the change.

3. Impact of the change.

4. Implementation of the change.

Anyone wishing to make an oral presentation should notify the Office of Federal Agency Programs by the close of business February 20, 2003. The request should state the amount of time desired, the capacity in which the person will appear, and a brief outline of the content of the presentation. Persons who request the opportunity to speak may be allowed to speak as time permits. Individuals with disabilities who wish to attend the meeting should contact Tom Marple at the address indicated below, if special accommodations are needed.

For additional information, please contact Thomas K. Marple, Director, Office of Federal Agency Programs, U.S. Department of Labor, Occupational Safety and Health Administration, Room N-3622, 200 Constitution Avenue, NW., Washington, DC 20210, telephone number (202) 693-2122. An official record of the meeting will be available for public inspection at the Office of Federal Agency Programs.

Signed at Washington, DC, this 3rd day of February, 2003.
John L. Henshaw,
Assistant Secretary of Labor for Occupational Safety and Health.

[FR Doc. 03-3186 Filed 2-7-03; 8:45 am]

BILLING CODE 4510-26-M